DEPARTMENT OF VETERANS AFFAIRS

Solicitation of Nominations for Appointment to the Advisory Committee on Former Prisoners of War

ACTION: Notice.

SUMMARY: The Department of Veterans Affairs (VA) is seeking nominations of qualified candidates to be considered for appointment to the Advisory Committee (Committee) on Former Prisoners of War (FPOW).

DATES: Nominations for membership on the Committee must be received no later than 5:00 p.m. EDT on June 2, 2022.

ADDRESSES: All nominations should be mailed to Outreach, Transition and Economic Development (OTED), Veterans Benefits Administration (VBA), Department of Veterans Affairs, 1800 G St. NW, Washington, DC 20006 or emailed to julian.wright2@va.gov.

FOR FURTHER INFORMATION CONTACT: Julian Wright, Designated Federal Officer (DFO), OTED, Department of Veterans Affairs, 1800 G St. NW, Washington, DC 20006, telephone (202) 302-8629.

SUPPLEMENTARY INFORMATION: In carrying out the duties set forth, the activities of the Committee include, but are not limited to:

(1) Advising the Secretary on how VA can assist and represent FPOWs', including recommendations regarding expanding services and benefits to FPOWs' and related policy. Administrative, legislative, and/or regulatory actions;

(2) Advising the Secretary on incorporating lessons learned from current, and previous, successful family research and outreach efforts that measure the impact of provided care and benefits services on FPOWs;

(3) Advising the Secretary on collaborating with family support programs within VA and engaging with other VA and non-VA advisory committees focused on specific demographics of FPOWs;

(4) Advising the Secretary on working with interagency, intergovernmental, private/non-profit, community, and Veteran service organizations to identify and address gaps in services for FPOWs;

(5) Providing such reports as the Committee deems necessary, but not less than one report per year, to the Secretary, through the DFO/VBA to describe the Committee's activities, deliberations, and findings, which may include but are not limited to: (1) Identification of current challenges and recommendations for remediation related to access to care and benefits services of FPOWs; and (2) identification of current best practices in care and benefits delivery to FPOWs, and the impact of such best practices.

Authority: The Committee is authorized by statute (5 U.S.C. 541) and operates under the provisions of the Federal Advisory Committee Act (FACA). The Committee advises the Secretary on the following:

(1) The administration of benefits for Veterans who are FPOW, in the areas of service-connected compensation, dependency and indemnity compensation, health care, and rehabilitation.

(2) The use of VA care and benefits services by FPOWs, and possible adjustments to such care and benefits services;

(3) Factors that influence access to, quality of, and accountability for services and benefits for FPOWs.

Membership Criteria and Qualifications: VA is seeking nominations for Committee membership. The Committee is composed of up to 12 members and several ex-officio members.

The members of the Committee are appointed by the Secretary of Veteran Affairs from the general public, from various sectors and organizations, including but not limited to:

(1) Veterans who are FPOWs.

(2) Appropriate representatives of Veterans who are former prisoners of war;

(3) Individuals who are recognized authorities in fields pertinent to disabilities prevalent among former prisoners of war, including authorities in epidemiology, mental health, nutrition, geriatrics and internal medicine; and

(4) Appropriate representatives of disabled Veterans.

In accordance with the Committee Charter, the Secretary shall determine the number, terms of service, and pay and allowances of Committee members. The term of service for any member may not exceed three years. The Secretary may reappoint any Committee member for additional terms of service.

To the extent possible, the Secretary seeks members who have diverse professional and personal qualifications including but not limited to subject matter experts in the areas described above. We ask that nominations include any relevant experience information so that VA can ensure diverse Committee membership.

Requirements for Nomination Submission: Nominations should be typed (one nomination per nominator). Nomination package should include:

(1) A letter of nomination that clearly states the name and affiliation of the nominee, the basis for the nomination (i.e., specific attributes which qualify the nominee for service in this capacity), and a statement from the nominee indicating the willingness to serve as a member of the Committee;

(2) The nominee's contact information, including name, mailing address, telephone numbers, and email address;

(3) The nominee's resume; and

(4) A summary of the nominee's experience and qualifications relative to the membership considerations described above.

Individuals selected for appointment to the Committee shall be invited to serve a two-year term. Committee members will receive a stipend for attending Committee meetings, including per diem and reimbursement for eligible travel expenses incurred.

The Department makes every effort to ensure that the membership of VA Federal advisory committees are diverse in terms of points of view represented and the committee's capabilities. Appointments to this Committee shall be made without discrimination because of a person's race, color, religion, sex, sexual orientation, gender identify, national origin, age, disability, or genetic information. Nominations must state that the nominee is willing to serve as a member of the Committee and appears to have no conflict of interest that would preclude membership. An ethics review is conducted for each selected nominee.

Dated: April 11, 2022.
Jelessa M. Burney,
Federal Advisory Committee Management Officer.

[FR Doc. 2022-07997 Filed 4-13-22; 8:45 am]

BILLING CODE P